DEPARTMENT OF THE INTERIOR

National Park Service

[NPS-NERO-PAGR-25118; PX.PR166532I.00.1]

Notice of the 2018 Meeting Schedule for the Paterson Great Falls National Historical Park Advisory Commission

AGENCY: National Park Service, Interior.

ACTION: Notice of meeting.

SUMMARY: The National Park Service is hereby giving notice of the 2018 meeting schedule for the Paterson Great Falls National Historical Park Advisory Commission.

DATES: The Commission will meet on the following dates in 2018:

Thursday, April 12, 2018, 2:00 p.m.-5:00 p.m. (EASTERN);

Thursday, July 12, 2018, 2:00 p.m.-5:00 p.m. (EASTERN); and

Thursday, October 11, 2018, 2:00 p.m.-5:00 p.m. (EASTERN).

ADDRESSES: The April and October meetings will be held at The Paterson Museum, 2 Market Street, Paterson, NJ 07501; the July meetings will be held at the Rogers Meeting Center, 32 Spruce Street, Paterson, NJ 07501.

FOR FURTHER INFORMATION CONTACT: Darren Boch, Superintendent and Designated Federal Officer, Paterson Great Falls National Historical Park, 72 McBride Avenue, Paterson, NJ 07501, telephone (973) 523-2630, or email darren_boch@nps.gov.

SUPPLEMENTARY INFORMATION: As required by the Federal Advisory Committee Act (5 U.S.C. Appendix 1-16), the National Park Service (NPS) is hereby giving notice for the 2018 meeting schedule for the Paterson Great Falls National Historical Park Advisory Commission. The Commission is authorized by the Omnibus Public Land Management Act, (16 U.S.C. 410lll), “to advise the Secretary in the development and implementation of the management plan.” Agendas for these meetings will be provided on the Commission website at http://www.nps.gov/pagr/parkmgmt/federal-advisory-commission.htm. Topics to be discussed include updates on the status of the Paterson Great Falls National Historical Park General Management Plan.

The meetings will be open to the public and time will be reserved during each meeting for public comment. Oral comments will be summarized for the record. If individuals wish to have their comments recorded verbatim, they must submit them in writing. Written comments and requests for agenda items may be sent to: Federal Advisory Commission, Paterson Great Falls National Historical Park, 72 McBride Avenue, Paterson, NJ 07501. Before including your address, phone number, email address, or other personal identifying information in your written comments, you should be aware that your entire comment—including your personal identifying information—may be made publicly available at any time. While you can ask us in your comment to withhold your personal identifying information from public review, we cannot guarantee that we will be able to do so. All comments will be made part of the public record and will be electronically distributed to all Committee members.

Authority: 5 U.S.C. Appendix 1-16; 16 U.S.C. 410lll.

Alma Ripps,
Chief, Office of Policy.

[FR Doc. 2018-06250 Filed 3-28-18; 8:45 am]

BILLING CODE 4312-52-P